POSTAL SERVICE

39 CFR Part 111

Presentation of First-Class Mail and Standard Mail (A) Automation Letters and Cards for Verification Under New SAVE Verification Procedures and Revisions to Combined Mailing Standards

AGENCY: Postal Service.

ACTION: Final rule.

SUMMARY: On December 9, 1999 (64 FR 68965), the Postal Service published a proposed rule amending the Domestic Mail Manual (DMM) to enable adoption of new mail verification procedures, now in the process of being implemented. The Postal Service also proposed one DMM change specific to combined mailings. This notice announces the adoption of these changes. They support the new Standardized Acceptance and Verification (SAVE) procedures for First-Class Mail and Standard Mail (A) automation letters and cards, and limit the weight of First-Class Mail with precanceled stamps in combined mailings. This notice also responds to several comments received.

EFFECTIVE DATE: July 13, 2000.

FOR FURTHER INFORMATION CONTACT: Scott Hamel, (703) 329-3660.

SUPPLEMENTARY INFORMATION: In summary, as of July 13, 2000, the following Domestic Mail Manual changes are being adopted to implement the new verification procedures for automation letter mailings and to revise the requirements for combined mailings:

(1) For First-Class Mail and Standard Mail (A) automation letter and card mailings, mixed AADC trays must be physically separated from other trays when the mail is presented to the USPS for verification.

(2) For all First-Class Mail and Standard Mail (A) automation letter and card mailings containing 10,000 or more pieces, documentation must be submitted on paper in a standardized format in accordance with DMM P012. Alternatively, if authorized by the Postal Service, the standardized documentation may be submitted in an easily accessible electronic format.

(3) For combined mailings, mailers may not include First-Class Mail pieces that weigh over 1 ounce and are paid with precanceled stamps.

Comments Received

The Postal Service received three comments in response to the December 9, 1999, Proposed Rule. One came from a professional mailer and two were from mailer associations. None were received directly from Postal Service customers. The comments fell into two broad categories: those relating to the published policy proposals, and those relating to the actual procedures to be used by Postal Service mail acceptance personnel in the verification process. The procedures were not included in the published notice but instead have been made available to mailers and their associations upon request. In addition, the Manager, Northern Virginia Rates and Classification Service Center has contacted mailer associations directly to discuss them. The procedures were not published with the policy proposals because the procedures do not impact the way mailers prepare mail. They change only the way the Postal Service verifies mail. Nonetheless, mailers did participate in the development of SAVE from its inception. In fact, several of its salient features were introduced by mailers. SAVE continues to evolve as we gain experience and evaluate and apply mailer suggestions.

One of the primary purposes of SAVE is to create a comprehensive, exact description of the procedures for postal clerks to use to verify automation letter and card mailings. The Postal Service committed to make the procedures available to mailers as well. In this way, the process can be monitored for integrity by mailers themselves.

The current version of the SAVE procedures (for MLOCR and barcode sorter mailers) is available from the Postal Service's Web site at www.usps.com/mptqm/downloads.htm. Very minor modifications may be made for other automation letter and card mailers as the result of current field testing. Any resulting changes will appear on the same Web site in late July 2000. The following paragraphs address mailers' comments to the proposed DMM changes.

Segregation of Mixed AADC Trays

Two comments were concerned that the Postal Service planned to scrutinize trays that tend to be error prone and then draw unfair conclusions about a mailing as a whole. A third comment questioned the value of the proposal to the Postal Service, but felt strongly that we needed to be clear in what is intended by “physically segregated.”

Regarding the fairness issue, the procedures address the comment by introducing a new “weight factor” when computing error percentages. This approach accomplishes the joint goals of encouraging mailers to improve the admitted lower quality of mixed AADC trays while not unduly penalizing other sort levels for these mixed level errors. Because mailers helped develop this weighting process, we are confident other mailers will agree to its fairness in operation. The Postal Service remains open to ideas for improving SAVE.

The value of this policy proposal is that SAVE requires the postal clerk to be able to locate all of the mixed AADC trays presented in a mailing so that verification can be performed. If these trays are spread throughout the mailing as presented, verification of the mail might be slowed due to the need to search to retrieve them. We do agree with the comment that our proposal, as initially worded, might cause confusion about what the mailer is required to do. Accordingly, we reworded the requirement to make it clearer. The language in DMM M810.1.8 was clarified and appears in this notice. For the purposes of reading that language, a “mailing” is defined as those automation rate pieces that are represented by a single postage statement.

Standardized Documentation for Mailings With 10,000 or More Pieces

One comment supports this change without reservation. Another believes the Postal Service is making it more difficult to present mail; that the old way of mailers segregating identical piece weight mail by rate category for weigh verifications should be continued.

As a general matter, the Postal Service intends to eliminate weigh verification as a means of verifying piece counts, whenever possible. This process is time consuming. Piece counts can be confirmed with documentation. Since all large mailings are computer driven, the needed documentation is available.

Standardization of documentation content and format will contribute to more consistent verification methods and results throughout the postal system. All mailers' computer files contain the necessary data already so that, in some cases, the mailer may simply need to reprogram the mail qualification report to meet DMM standardized formats. Accordingly, the Postal Service is adopting the requirement that mailers provide standardized documentation for automation letter mailings having 10,000 or more pieces.

Eliminating Precanceled Stamped Pieces

The only comment on this portion of the proposal questioned its inclusion. This proposal was included because the Postal Service is striving to simplify mailing processes. Allowing precanceled stamp pieces that weigh more than 1 ounce in combined mailings adds complexity and makes verification extremely difficult. To make SAVE consistent universally, we believe it is important to eliminate this option. The crucial considerations in making this decision were that (1) business mailers have both metered and permit imprint options for this mail, and (2) few mailers are impacted because use of other than 1 ounce precanceled stamps in combined mailings is extremely rare. The Postal Service plans to go forward with this change.

General Comment

In conclusion, one comment suggested a six-month delay in implementing SAVE, so that more mailers can be educated. As it is, this final notice comes a full seven months after the initial notice. In lieu of delaying implementation, the Postal Service will further evaluate and promote awareness of SAVE by:

(1) Addressing national mailer association conferences.

(2) Providing its district offices with PowerPoint presentations to be used at local Postal Customer Council (PCC) meetings.

(3) Offering presentations at the Nashville and Anaheim Postal Forums.

(4) Making the SAVE procedures available to the mailing community via the Postal Service Web site. (MLOCR/barcode sorter procedures are available now; modifications for other automation letter and card mailers will be available in July 2000.)

(5) Testing SAVE at several list mailer sites in June 2000.

This approach recognizes that the bulk of SAVE educational efforts will be borne by the Postal Service. The impact on mailers will be minimal. Mailers need only begin presenting mixed AADC trays together, and many already do this. Some mailers may need to reprogram mail qualification reports to conform to current DMM standardized formats, although all MLOCR/barcode sorter mailers and most list mailers already meet this standard because they use conforming software from equipment and software vendors.

Although exempt from the notice and comment requirements of the Administrative Procedure Act (5 U.S.C.553 (b),(c)) regarding proposed rulemaking by 39 U.S.C.410 (a), the Postal Service adopts the following revisions to the Domestic Mail Manual (DMM), incorporated by reference in the Code of Federal Regulations. See 39 CFR part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Amend the following sections of the Domestic Mail Manual as set forth below:

M Mail Preparation and Sortation

* * * * *

M800 All Automation Mail

M810 Letter-Size Mail

Mail 1.0 BASIC STANDARDS

* * * * *

1.3 Documentation

[Amend 1.3 to read as follows:]

A complete, signed postage statement, using the correct USPS form or an approved facsimile, must accompany each mailing and must be supported by documentation produced by PAVE-certified (or, except for Periodicals, MAC-certified) software or by standardized documentation under P012. Exception: For mailings of fewer than 10,000 pieces, presort and rate documentation is not required if postage at the correct rate is affixed to each piece or if each piece is of identical weight and the pieces are separated by rate when presented for acceptance. Mailers may use a single postage statement and a single documentation report for all rate levels in a single mailing. Standard Mail (A) mailers may use a single postage statement and a single documentation report for both an automation carrier route mailing and a mailing containing pieces prepared at 5-digit, 3-digit, and basic automation rates as applicable, submitted for entry at the same time. Documentation of postage is not required if the correct rate is affixed to each piece or if each piece is of identical weight and the pieces are separated by rate when presented for acceptance. Combined mailings of Periodicals publications also must also be documented under M200. First-Class and Standard Mail (A) mailings prepared under the value added refund procedures or as combined mailings of different postage payment methods or different rates of postage affixed must meet additional standardized documentation requirements under P014 and P760.

* * * * *

[Add new 1.8 to read as follows:]

1.8 Presentation

Upon presentation of letter-size automation rate First-Class Mail and Standard Mail (A) mailings to the Postal Service for verification, mailers must present all mixed AADC trays together, and such trays must either be adjacent to one another or side by side, and must be placed as the top layer(s) on any given container. Containerization instructions for First-Class Mail letters and cards may be established by local Postal Service managers.

* * * * *

P Postage and Payment Methods

* * * * *

P700 Special Postage Payment Systems

* * * * *

P760 First-Class or Standard Mail (A) Mailings With Different Payment Methods

* * * * *

2.0 POSTAGE

* * * * *

2.3 Precanceled Pieces—First-Class Mail

[Amend 2.3 by revising the first sentence to read as follows:]

Pieces with precanceled stamps in a combined mailing must not weigh more than 1 ounce and must bear postage in any denomination of precanceled stamps permitted in a Presorted or automation rate mailing. Additional postage due for precanceled stamp pieces in a combined mailing is deducted from the mailer's postage due advance deposit account. Full postage at single-piece First-Class Mail rates must be paid on accompanying single-piece rate mail using one of the methods under P100. Additional preparation to verify postage due may be required by the Postal Service.

* * * * *

An appropriate amendment to 39 CFR 111.3 will be published to reflect these changes.

Stanley F. Mires,
Chief Counsel, Legislative.

[FR Doc. 00-17094 Filed 7-6-00; 8:45 am]

BILLING CODE 7710-12-U